DEPARTMENT OF DEFENSE

Office of the Secretary

Reserve Forces Policy Board; Notice of Federal Advisory Committee Meeting

AGENCY: Office of the Secretary of Defense, Reserve Forces Policy Board, Department of Defense.

ACTION: Notice of Federal Advisory Committee Meeting.

SUMMARY: The Department of Defense (DoD) is publishing this notice to announce that the following Federal Advisory Committee meeting of the Reserve Forces Policy Board (RFPB) will take place.

DATES: Wednesday, March 8, 2017 from 8:15 a.m. to 3:50 p.m.

ADDRESSES: The address is the Pentagon, Room 3E863, Arlington, VA.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Web site: http://rfpb.defense.gov/. The most up-to-date changes to the meeting agenda can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review, and evaluate information related to strategies, policies, and practices designed to improve and enhance the capabilities, efficiency, and effectiveness of the Reserve Components.

Agenda: The RFPB will hold a meeting from 8:15 a.m. to 3:50 p.m. The portion of the meeting from 8:15 a.m. to 11:45 a.m. will be closed to the public and will consist of remarks to the RFPB from following invited speakers: Major General Sheila Zuehlke, USAFR, Subcommittee on Enhancing DoD's Role in the Homeland Board Member, will provide an update on the progress of the recommendations made in the RFPB's 2014 report to SECDEF: “Department of Defense Cyber Approach: Use of the National Guard and Reserve in the Cyber Mission Force.” The Air Force Total Force Continuum Office will provide updates on the implementation of recommendations from the National Commission on the Structure of the Air Force report of January 2014 as they apply to the Air Guard & Air Force Reserve. The National Commission on the Future of the Army Tri-Chair Office will provide updates on the implementation of recommendations from the National Commission on the Future of the Army report of January 2016 as they apply to the Army National Guard and Army Reserve. The Institute for Defense Analysis will provide an update on their findings in Phase II of their operational effectiveness study on the Reserve Components during Operation Enduring Freedom. The portion of the meeting from 12:25 p.m. to 3:50 p.m. will be open to the public and will consist of briefings from: The Chief of the Navy Reserve, Chief of the Army Reserve, and Commander, United States Marine Forces Reserve to discuss their priorities and views regarding the readiness of their respective component's challenges for the “Operational Reserve” as part of the Total Force. The Chair of the Subcommittee on Supporting and Sustaining Reserve Component Personnel will discuss the subcommittee's review of the Department of Defense's (DoD's) Duty Status reform proposals and discuss some of the specific policies impacting the Reserve Components for a proposed RFPB Duty Status reform recommendation report to the Secretary of Defense. The Chair of the Subcommittee on Ensuring a Ready, Capable, Available, and Sustainable Operational Reserve will discuss the subcommittee's review of the reorganization of the Office of the Secretary of Defense for Personnel and Readiness and discuss its impacts on the Reserve Components for a proposed RFPB recommendation report to the Secretary of Defense.

Meeting Accessibility: Pursuant to section 10(a)(1) of the FACA and 41 CFR 102-3.140 through 102-3.165, and subject to the availability of space, the meeting is open to the public from 12:25 p.m. to 3:50 p.m. Seating is on a first-come, first-served basis. All members of the public who wish to attend the public meeting must contact Mr. Alex Sabol, the Designated Federal Officer, not later than 12:00 p.m. on Tuesday, March 7, 2017, as listed in the FOR FURTHER INFORMATION CONTACT section to make arrangements for a Pentagon escort, if necessary.

Public attendees requiring escort should arrive at the Pentagon Metro Entrance with sufficient time to complete security screening no later than 11:50 a.m. on March 8. To complete the security screening, please be prepared to present two forms of identification. One must be a picture identification card. In accordance with section 10(d) of the FACA, 5 U.S.C. 552b(c), and 41 CFR 102-3.155, the DoD has determined that the portion of this meeting scheduled to occur from 8:15 a.m. to 11:45 a.m. will be closed to the public. Specifically, the Under Secretary of Defense (Personnel and Readiness), in coordination with the Department of Defense FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's Web site.

Dated: February 15, 2017.
Aaron Siegel,
Alternate OSD Federal Register Liaison Officer, Department of Defense.

[FR Doc. 2017-03327 Filed 2-17-17; 8:45 am]

BILLING CODE 5001-06-P